DEPARTMENT OF COMMERCE

National Oceanic and Atmospheric Administration

Proposed Information Collection; Comment Request; Produce Processor Profiles of Fish Processing Plants in Alaska

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 21, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Christina Package, (206) 526-6683 or Christina.Package@noaa.gov, or Jennifer Sepez, (206) 526-6546 or Jennifer.Sepez@noaa.gov.

SUPPLEMENTARY INFORMATION:

I. Abstract

Workers come from many places inside and outside Alaska to work seasonally in its fish processing facilities. As a result, the population of an Alaska community with a fish processing plant can increase significantly during peak processing seasons. However, very limited information is available in a consolidated location or format about these fish processing facilities. The National Marine Fisheries Service's Alaska Fisheries Science Center proposes to obtain such basic information, as an accurate number of individuals employed at each processing facility during the months of operation, the peak number of workers for processing various species by season, the ethnicity of processing workers, types of lodging and other accommodations and activities available for processing workers, whether or not the company provides meals for the processing workforce in a company galley, the interactions between seasonal processing workers and permanent residents of the community, and the history of the fish processing facility in the community. This type of information is important when attempting to forecast the possible social impacts of fishing regulations on communities which have an onshore fish processing facility.

This project would produce “processor profiles”, short narrative descriptions of all the onshore fish processing plants in the state of Alaska that will augment and update existing community profiles.

II. Method of Collection

Phone surveys will be conducted with all shore-based fish processing plants in Alaska. Site visits will be conducted with shore-based fish processing plants in three communities in Alaska: Cordova, Kenai, and Petersburg (these communities have not previously received a site visit and have the largest number of fish processing facilities in their sub-regions).

III. Data

OMB Control Number: None.

Form Number: None.

Type of Review: Regular submission.

Affected Public: Businesses or other for-profit organizations.

Estimated Number of Respondents: 163 phone survey respondents; 27 in-person survey respondents (one per each processing plant visited during site visits).

Estimated Time Per Response: 20 minutes for phone survey; 40-60 minutes for in-person survey.

Estimated Total Annual Burden Hours: 82.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 15, 2010.
Gwellnar Banks,
Management Analyst, Office of the Chief Information Officer.

[FR Doc. 2010-9114 Filed 4-20-10; 8:45 am]

BILLING CODE 3510-22-P